DEPARTMENT OF THE INTERIOR

Bureau of Land Management

[NV-030-04-5101-ER-F333]

Notice of Availability for the Tracy To Silver Lake Transmission Line Project Final Environmental Impact Statement and Initiation of a 30-day Public Comment Period, Carson City Field Office, NV

AGENCY: Bureau of Land Management, Interior.

ACTION: Notice of availability.

SUMMARY: Pursuant to section 102(2)(C) of the National Environmental Policy Act (NEPA) and 40 CFR 1500-1508 Council on Environmental Quality Regulations (CEQ), notice is hereby given that the Bureau of Land Management's (BLM) Carson City Field Office has prepared with the assistance of a third-party consultant, a Final Environmental Impact Statement (FEIS) for the Proposed Tracy to Silver Lake Power Line Project, and has made the document available for public and agency review and comment. The project, which is proposed by the Sierra Pacific Power Company (SPPC), includes the upgrade and extension of a 120 KV electric transmission line, as well as the construction of two substations, from the existing power plant at Tracy, Nevada to the existing Silver Lake substation near Stead in Washoe County, Nevada. The FEIS also analyzes five alternatives to the proposed action that were developed with the cooperating agencies, SPPC, and the public.

DATES: The formal comment period for the FEIS will commence on July 16, 2004, and will end on August 16, 2004. Comments on issues and concerns should be received on or before the end of the comment period at the address listed below.

ADDRESSES: Written comments should be sent to BLM Carson City Field Office, Attn: Terri Knutson, 5665 Morgan Mill Road, Carson City, NV 89701; Fax (775) 885-6147; or e-mail address tracysilverlake_eis@blm.gov. A limited number of copies of the FEIS may be obtained at the above BLM Field Office in Carson City, NV. The FEIS also is available electronically via the Carson City Field Office Home Page at: www.nv.blm.gov/carson. Comments, including names and street addresses of respondents, will be available for public review at the above address during regular business hours (7:30 a.m.-5 p.m.), Monday through Friday, except holidays, and may be published as part of the EIS.

Individual respondents may request confidentiality. If you wish to withhold your name or street address from public review or from disclosure under the Freedom of Information Act, you must state this prominently at the beginning of your written comment. However, anonymous comments will not be considered. Such requests will be honored to the extent allowed by law. All submissions from organizations or businesses, and from individuals identifying themselves as representatives or officials of organizations or businesses, will be made available for public inspection in their entirety.

FOR FURTHER INFORMATION CONTACT: For additional information, write to the above address or call Terri Knutson (BLM Environmental Planner) at (775) 885-6156.

SUPPLEMENTARY INFORMATION: The FEIS analyzes the environmental impacts associated with the construction, operation, and maintenance of the proposed 120 kV power line and two substations. The FEIS analyzes the proposed power line route and five alternative routes, as well as, an alternative site for each of the two proposed substations. Issues analyzed were brought forth through the public scoping process, cooperating agency coordination, and input from BLM's resource specialists. The proposed power line crosses several jurisdictions with permitting responsibilities, therefore, the following agencies or entities are active participants in the EIS process as formal cooperating agencies: Reno-Sparks Indian Colony; Washoe County; City of Reno; City of Sparks; Airport Authority of Washoe County; and Truckee Meadows Regional Planning Agency. A copy of the FEIS has been sent to all individuals, agencies, and groups who have expressed an interest in the project, or as mandated by regulation or policy.

Public participation has occurred throughout the EIS process. A Notice of Intent to Prepare an EIS was published in the Federal Register on June 25, 2002 and the 30-day public comment period was initiated. A BLM public, open house was held in Reno on July 17, 2002 and six additional presentations were made to local agencies, homeowner associations, and the Reno-Sparks Indian Colony Tribal Council.

The Draft EIS was filed with the Environmental Protection Agency and a Notice of Availability of the document, announcement of public presentations, and initiation of a 60-day comment period was published in the Federal Register on October 10, 2003 (Pages 58668-58669). Two BLM public, open houses were held in Reno and sixteen additional presentations were conducted for local governments, planning commissions, citizen advisory boards, homeowner associations, and the Reno-Sparks Indian Colony Tribal Council. Certain adaptations or revisions were made to the FEIS in response to comments received on the Draft EIS. The comments and BLM responses to those comments are included in the FEIS.

To assist the BLM in identifying and considering issues and concerns on the proposed action and alternatives, comments on the FEIS should be as specific as possible. Comments should also refer to specific pages or chapters in the document. After the 30-day comment period ends, all comments will be analyzed and considered by the BLM in preparing the Record of Decision.

Dated: June 10, 2004.
Elayn Briggs,
Assistant Manager, Carson City Field Office.

[FR Doc. 04-15889 Filed 7-15-04; 8:45 am]

BILLING CODE 4310-HC-P